Title 3—

The President

Memorandum of September 21, 2023

Delegation of Authority Under Section 614(a)(1) and Section 506(a)(1) of the Foreign Assistance Act of 1961

Memorandum for the Secretary of State

By the authority vested in me as President by the Constitution and the laws of the United States of America, including section 621 of the Foreign Assistance Act of 1961 (FAA), I hereby delegate to the Secretary of State:

(1) the authority under section 614(a)(1) of the FAA to determine whether it is important to the security interests of the United States to furnish approximately $128 million in assistance to Ukraine without regard to any provision of law within the purview of section 614(a)(1) of the FAA; and

(2) the authority under section 506(a)(1) of the FAA to direct the drawdown of approximately $128 million in defense articles and services of the Department of Defense, and military education and training, to provide assistance to Ukraine and to make the determinations required under such section to direct such a drawdown.

You are authorized and directed to publish this memorandum in the Federal Register.

THE WHITE HOUSE,

Washington, September 21, 2023

[FR Doc. 2023-22631

Filed 10-10-23; 11:15 am]

Billing code 4710-10-P